DEPARTMENT OF ENERGY

Federal Energy Regulatory Commission

[Docket No. EL01-61-000]

Idaho Power Company, Complainant, v. PacifiCorp Respondent; Notice of Complaint

March 29, 2001.

Take notice that on March 28, 2001, Idaho Power Corporation (Idaho Power) filed with the Federal Energy Regulatory Commission a Complaint against PacifiCorp pursuant section 206 of the Federal Power Act and rule 206 of the Commission's Rules of Practice and Procedure, 18 CFR 385.206. According to the Complaint, PacifiCorp wrongfully denied a request for firm point-to-point transmission service made by Idaho Power under PacifiCorp's Open Access Transmission Tariff (OATT) for which Idaho Power had reservation priority on Pacificorp's transmission request queue.

Copies of the filing were served via facsimile upon PacifiCorp and Powerex. Questions concerning the Complaint may be directed to counsel for Complainant, Viet H. Ngo, Steptoe & Johnson LLP, 1330 Connecticut Avenue, NW., Washington DC 20036, Ph. 202-429-8123, Fax 202-429-3902, E-mail vngo@steptoe.com.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 6, 2001. Protests will be considered by the Commission in determining the appropriate action to be taken, but will not serve to make protestants parties to the proceeding. Any person wishing to become a party must file a motion to intervene. Copies of this filing are on file with the Commission and are available for public inspection in the Public Reference room. This filing may also be viewed on the Internet at http://www.ferc.fed.us/online/rims.htm (call 202-208-2222) for assistance. Answers to the complaint shall also be due on or before April 6, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-8218 Filed 4-3-01; 8:45 am]

BILLING CODE 6717-01-M